DEPARTMENT OF THE INTERIOR

Bureau of Land Management

[CO-200-1220-MA]

Notice of Closure of Public Lands to Motorized Vehicles

AGENCY: Bureau of Land Management, Interior.

ACTION: Closure Order for Motorized Vehicle Travel on Public Lands.

SUMMARY: Notice is hereby given that certain public lands in Fremont County, Colorado are closed to all types of motorized vehicle (including but not limited to 4X4, ATVs, and motorcycles) travel. The purpose of this closure is to prevent further disturbance to soils and vegetation in and near the riparian area of Badger Creek, reduce sedimentation in Badger Creek, and preclude use of a washed out portion of the Badger Creek Road #5965 that is a safety hazard. The reason behind this closure is the recent washing out of a portion of the Badger Creek Road. This has caused some vehicle users to drive in Badger Creek as a way to get around the washout. In addition, renewed use of the channel of Badger Creek for vehicular passage is occurring throughout the closure area. This closure is made under the authority of 43 CFR 8364.1.

DATES: Effective immediately and remaining in effect unless revised, revoked or amended.

ADDRESSES: Bureau of Land Management, Royal Gorge Field Office, 3170 East Main Street, Canon City, Colorado 81212; telephone 719-269-8500.

FOR FURTHER INFORMATION CONTACT: Levi D. Deike, Associate Field Office Manager, at the above address and phone number, or John Nahomenuk, Outdoor Recreation Planner, Arkansas Headwaters Recreation Area, P.O. Box 126, Salida, CO 81201; telephone 719-539-7289.

SUPPLEMENTARY INFORMATION: The public lands affected by this closure are identified as follows:

New Mexico Principal Meridian

T.49N., R.10E.,

Section 15: SW¼

Section 16: S½SE¼

Section 21: E½

Section 22: W½

Section 27: NW¼ and that portion of the SW¼ north of the railroad right-of-way

Section 28: that portion of the NE¼, NE¼SE¼ north of the railroad right-of-way

This closure does not apply to emergency, law enforcement, and federal or other government vehicles while being used for official or emergency purposes, or to any vehicle whose use is expressly authorized or otherwise officially approved by BLM. Violation of this order is punishable by fine and/or imprisonment as defined in 18 U.S.C. 3571. A copy of this Federal Register Notice and a map showing the closure area is posted in the Royal Gorge Field Office and in public places in the affected area.

Levi D. Deike,
Associate Field Office Manager.

[FR Doc. 00-13772 Filed 6-1-00; 8:45 am]

BILLING CODE 4310-JB-P